ENVIRONMENTAL PROTECTION AGENCY

40 CFR Part 180

[EPA-HQ-OPP-2015-0032; FRL-9937-14]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before December 28, 2015.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Director, Biopesticides and Pollution Prevention Division (BPPD) (7511P), main telephone number: (703) 305-7090, email address: BPPDFRNotices@epa.gov; or Susan Lewis, Director, Registration Division (RD) (7505P), main telephone number: (703) 305-7090, email address: RDFRNotices@epa.gov. The mailing address for each contact person is: Office of Pesticide Programs, Environmental Protection Agency, 1200 Pennsylvania Ave. NW., Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

New Tolerances

1. PP 4F8249. (EPA-HQ-OPP-2014-0314). This notice is a revision to the notice published in the Federal Register of August 1, 2014 (79 FR 44729) (FRL-9911-67). Dow AgroSciences, LLC, 9330 Zionsville Road, Indianapolis, IN 46268-1054, requests to establish a tolerance in 40 CFR part 180 for residues of the herbicide, triclopyr [(3,5,6-trichloro-2-pyridinyl)oxy] acetic acid in or on the raw agricultural commodity milk, fat at 0.7 parts per million (ppm); and to increase the tolerance in or on milk from 0.01 ppm to 0.6 ppm. The petitioner also requests to amend 40 CFR part 180.417 by establishing tolerances for residues of triclopyr [(3,5,6-trichloro-2-pyridinyl)oxy] acetic acid and its metabolite 3,5,6-trichloro-2-pyridinol (TCP), calculated as the stoichiometric equivalent of triclopyr, in or on the raw agricultural commodities of cattle, goat, hog, horse, and sheep meat byproducts at 0.7 ppm; by increasing tolerances in cattle, goat, hog, horse, and sheep fat from 0.05 ppm to 0.09 ppm; and by increasing tolerances in cattle, goat, hog, horse, and sheep meat from 0.05 ppm to 0.08 ppm. An analytical method using electron capture gas chromatography is used to measure and evaluate the chemical triclopyr. Contact: RD.

2. PP 5E8402. (EPA-HQ-OPP-2015-0712). Interregional Research No. 4 (IR-4), Rutgers, The State University of New Jersey, 500 College Road East, Suite 201-W, Princeton, NJ 08540, requests to establish a tolerance in 40 CFR part 180 for residues of the herbicide, clomazone 2-(2-chlorophenyl)methyl-4,4-dimethyl-3-isoxazolidinone in or on asparagus at 0.05 parts per million (ppm); and vegetable soybean (edamame) at 0.05 ppm. The analytical method consisting of an acid reflux, a C18 solid phase extraction (SPE), a Florisil SPE clean-up followed by gas chromatography (GC)-mass selective detection (MSD) is used to measure and evaluate the chemical clomazone. Contact: RD.

3. PP 5F8381. (EPA-HQ-OPP-2015-0722). Bayer CropScience, P.O. Box 12014, 2 T.W. Alexander Drive, Research Triangle Park, NC 27709, requests to establish a tolerance in 40 CFR part 180.626 for residues of the fungicide, prothioconazole in or on cotton, undelinted seed (crop subgroup 20C at 0.4 parts per million (ppm). The liquid chromatography/mass spectrometry (LC/MS/MS) is used to measure and evaluate the chemical prothioconazole. Contact: RD.

4. PP 5F8381. (EPA-HQ-OPP-2015-0722). Bayer CropScience, P.O. Box 12014, 2 T.W. Alexander Drive, Research Triangle Park, NC 27709, requests to amend the tolerance in 40 CFR 180.626 for residues of the fungicide, prothioconazole in or on sugar beet, roots at 0.3 parts per million (ppm). The LC/MS/MS is used to measure and evaluate the chemical prothioconazole. Contact: RD.

5. PP 5F8361. (EPA-HQ-OPP-2015-0488). MacIntosh and Associates, Inc., 1203 Hartford Ave., St. Paul, MN 55116-1622 (on behalf of AgBiTech Pty Ltd, 8 Rocla Ct., Glenvale, Queensland 4350, Australia), requests to establish an exemption from the requirement of a tolerance in 40 CFR part 180 for residues of the microbial insecticide Spodoptera frugiperda Multiple Nucleopolyhedrovirus—3AP2 in or on food crops. The petitioner believes no analytical method is needed because the petitioner is requesting an exemption from tolerance. Contact: BPPD.

Authority: 21 U.S.C. 346a.

Dated: November 16, 2015.
Susan Lewis,
Director, Registration Division, Office of Pesticide Programs.

[FR Doc. 2015-29893 Filed 11-24-15; 8:45 am]

BILLING CODE 6560-50-P